DEPARTMENT OF HOMELAND SECURITY

Federal Emergency Management Agency

[Docket ID FEMA-2014-0002; Internal Agency Docket No. FEMA-B-1436]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 2, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1436, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: October 9, 2014.
Roy E. Wright,
Deputy Associate Administrator for Mitigation, Department of Homeland Security, Federal Emergency Management Agency.

I. Watershed-based studies:

East Nishnobta Watershed
Community | Community map repository address
Audubon County, Iowa, and Incorporated Areas
Maps Available for Inspection Online at: http://www.fema.gov/preliminaryfloodhazarddata
City of Audubon | City Hall, 410 North Park Place, Audubon, IA 50025.
City of Brayton | City Hall, 202 County Trunk Road, Brayton, IA 50042.
City of Exira | City Hall, 108 East Washington Street, Exira, IA 50076.
City of Gray | Audubon County Courthouse, 318 Leroy Street, Suite 4, Audubon, IA 50025.
City of Kimballton | City Hall, 116 North Main Street, Kimballton, IA 51543.
Unincorporated Areas of Audubon County | Audubon County Courthouse, 318 Leroy Street, Suite 4, Audubon, IA 50025.
Montgomery County, Iowa, and Incorporated Areas
City of Coburg | Montgomery County Courthouse, 105 East Coolbaugh Street, Red Oak, IA 51566.
City of Elliott | Clerk's Office, 409 Main Street, Elliott, IA 51532.
City of Grant | Montgomery County Courthouse, 105 East Coolbaugh Street, Red Oak, IA 51566.
City of Red Oak | City Hall, 601 North 6th Street, Red Oak, IA 51566.
City of Stanton | City Hall, 310 Broad Avenue, Stanton, IA 51573.
City of Villisca | City Hall, 318 South 3rd Avenue, Villisca, IA 50864.
Unincorporated Areas of Montgomery County | Montgomery County Courthouse, 105 East Coolbaugh Street, Red Oak, IA 51566.

II. Non-watershed-based studies:

Community | Community map repository address
City of Cordova, Alaska, Valdez-Cordova Census Area
Maps Available for Inspection Online at: http://www.fema.gov/preliminaryfloodhazarddata
City of Cordova | City Hall, 602 Railroad Avenue, Cordova, AK 99574.
Kenai Peninsula Borough, Alaska, and Incorporated Areas
Maps Available for Inspection Online at: http://www.fema.gov/preliminaryfloodhazarddata
City of Homer | City of Homer Planning and Zoning Office, 491 East Pioneer Avenue, Homer, AK 99603.
City of Kenai | Public Works Department, 210 Fidalgo Avenue, Kenai, AK 99611.
City of Seward | Petro Plaza Building, 234 Fourth Avenue, Seward, AK 99663.
Kenai Peninsula Borough | Borough Administration Building, 144 North Binkley Street, Soldotna, AK 99669.
Lee County, Illinois, and Incorporated Areas
Maps Available for Inspection Online at: http://www.fema.gov/preliminaryfloodhazarddata
City of Dixon | City Hall, Building and Zoning Office, 121 West Second Street, Dixon, IL 61021.
City of Rochelle | City Hall, 420 North Sixth Street, Rochelle, IL 61068.
Unincorporated Areas of Lee County | County Zoning Office, 112 East Second Street, Dixon, IL 61021.
Village of Nelson | Village Hall, 202 South Butler Street, Nelson, IL 61021.
Ogle County, Illinois, and Incorporated Areas
Maps Available for Inspection Online at: http://www.fema.gov/preliminaryfloodhazarddata
City of Byron | City Hall, 232 West Second Street, Byron, IL 61010.
City of Oregon | City Hall, 115 North Third Street, Oregon, IL 61061.
City of Rochelle | City Hall, 420 North Sixth Street, Rochelle, IL 61068.
Unincorporated Areas of Ogle County | Ogle County Planning & Zoning Department, 911 West Pines Road, Oregon, IL 61061.
Village of Hillcrest | Village Hall, 204 Hillcrest Avenue, Rochelle, IL 61068.
St. Joseph County, Indiana, and Incorporated Areas
Maps Available for Inspection Online at: http://www.fema.gov/preliminaryfloodhazarddata
City of Mishawaka | City Hall, 600 East Third Street, Mishawaka, IN 46544.
Town of Osceola | Town Hall, 850 Lincoln Way West, Osceola, IN 46561.
Unincorporated Areas of St. Joseph County | St. Joseph County City Building, 227 West Jefferson Boulevard South Bend, IN 46601.
Calhoun County, Iowa, and Incorporated Areas
Maps Available for Inspection Online at: http://www.fema.gov/preliminaryfloodhazarddata
City of Farnhamville | City Hall, 240 Hardin Street, Farnhamville, IA 50538.
City of Knierim | Fire Station, 203 Center Street, Knierim, IA 50552.
City of Lake City | City Hall, 105 North Center Street, Lake City, IA 51449.
City of Lohrville | City Hall, 605 2nd Street, Lohrville, IA 51453.
City of Manson | City Hall, 1015 13th Street, Manson, IA 50563.
City of Pomeroy | City Hall, 114 South Ontario Street, Pomeroy, IA 50575.
City of Rinard | Calhoun County Engineer's Office, 416 4th Street, Suite 7, Rockwell City, IA 50579.
City of Rockwell City | City Hall, 335 Main Street, Rockwell City, IA 50579.
City of Somers | Calhoun County Engineer's Office, 416 4th Street, Suite 7, Rockwell City, IA 50579.
Unincorporated Areas of Calhoun County | Calhoun County Engineer's Office, 416 4th Street, Suite 7, Rockwell City, IA 50579.
Greene County, Iowa, and Incorporated Areas
Maps Available for Inspection Online at: http://www.fema.gov/preliminaryfloodhazarddata
City of Churdan | City Hall, 507 Sand Street, Churdan, IA 50050.
City of Jefferson | City Hall, 220 North Chestnut Street, Jefferson, IA 50129.
City of Paton | Greene County Courthouse, 114 North Chestnut Street, Jefferson, IA 50129.
City of Ralston | Greene County Courthouse, 114 North Chestnut Street, Jefferson, IA 50129.
City of Rippey | Greene County Courthouse, 114 North Chestnut Street, Jefferson, IA 50129.
Unincorporated Areas of Greene County | Greene County Courthouse, 114 North Chestnut Street, Jefferson, IA 50129.
Dakota County, Minnesota, and Incorporated Areas
Maps Available for Inspection Online at: http://www.fema.gov/preliminaryfloodhazarddata
City of Hastings | City Hall, 101 Fourth Street East, Hastings, MN 55033.
Scott County, Minnesota, and Incorporated Areas
Maps Available for Inspection Online at: http://www.fema.gov/preliminaryfloodhazarddata
City of Belle Plaine | City Hall, 218 North Meridian Street, Belle Plaine, MN 56011.
City of Elko New Market | City Hall, 601 Main Street, Elko New Market, MN 55054.
City of Jordan | City Hall, 210 East First Street, Jordan, MN 55352.
City of Prior Lake | City Hall, 4646 Dakota Street Southeast, Prior Lake, MN 55372.
City of Savage | City Hall, 6000 McColl Drive, Savage, MN 55378.
City of Shakopee | City Hall, 129 South Holmes Street, Shakopee, MN 55379.
Unincorporated Areas of Scott County | Scott County Government Center, 200 Fourth Avenue West Shakopee, MN 55379.
Logan County, Ohio, and Incorporated Areas
Maps Available for Inspection Online at: http://www.fema.gov/preliminaryfloodhazarddata
City of Bellefontaine | 135 North Detroit Street, Bellefontaine, OH 43311.
Unincorporated Areas of Logan County | 1365 County Road 32 North, Suite 2, Bellefontaine, OH 43311.
Village of Belle Center | 104 West Buckeye Street, Belle Center, OH 43310.
Village of DeGraff | 107 South Main Street, DeGraff, OH 43318.
Village of Lakeview | 126 North Main Street, Lakeview, OH 43331.
Village of Quincy | 115 North Miami Street, Quincy, OH 43343.
Village of Russells Point | 433 State Route 708, Russells Point, OH 43348.
Village of Valley Hi | 2002 Snow Ridge Circle, Valley Hi, OH 43360.
Village of West Liberty | 201 North Detroit Street, West Liberty, OH 43357.
Village of Zanesfield | 4718 Columbus Street, Zanesfield, OH 43360.
Lucas County, Ohio, and Incorporated Areas
Maps Available for Inspection Online at: http://www.fema.gov/preliminaryfloodhazarddata
City of Toledo | Department of Inspection, One Government Center, Suite 1600, Toledo, OH 43604.
Unincorporated Areas of Lucas County | Lucas County Engineer's Office, 1049 South McCord Road, Holland, OH 43528.
Village of Ottawa Hills | Jean W. Youngen Municipal Building, 2125 Richards Road, Ottawa Hills, OH 43606.
Putnam County, Ohio, and Incorporated Areas
Maps Available for Inspection Online at: http://www.fema.gov/preliminaryfloodhazarddata
Unincorporated Areas of Putnam County | Putnam County Courthouse, 245 East Main Street, Ottawa, OH 45875.
Village of Columbus Grove | Village Office, 113 East Sycamore Street, Columbus Grove, OH 45830.
Village of Dupont | Village Office, 101 South Liberty Street, Dupont, OH 45837.
Village of Fort Jennings | Village Office, 440 4th Street, Fort Jennings, OH 45844.
Village of Gilboa | Municipal Building, 206 Main Street, Gilboa, OH 45875.
Village of Glandorf | Village Hall, 201 North Main Street, Glandorf, OH 45848.
Village of Kalida | Municipal Building, 110 South Broad Street, Kalida, OH 45853.
Village of Leipsic | Village Hall, 142 East Main Street, Leipsic, OH 45856.
Village of Ottawa | Village Hall, 136 North Oak Street, Ottawa, OH 45875.
Village of Ottoville | Municipal Center, 150 Park Drive, Ottoville, OH 45876.
Village of Pandora | Municipal Building, 102 South Jefferson Street, Pandora, OH 45877.
Outagamie County, Wisconsin, and Incorporated Areas
Maps Available for Inspection Online at: http://www.fema.gov/preliminaryfloodhazarddata
City of Appleton | City Hall, 100 North Appleton Street, Appleton, WI 54911.
Unincorporated Areas of Outagamie County | County Building, 410 South Walnut Street, Appleton, WI 54911.

[FR Doc. 2014-25982 Filed 10-31-14; 8:45 am]

BILLING CODE 9110-12-P